SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: February 1-28, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22(f) for the time period specified above.

Approvals By Rule—Issued Under 18 CFR 806.22(f):

1. RENEWAL—Expand Operating LLC; Pad ID: Greenzweig (GU C Pad); ABR-201407004.R2; Herrick Township, Bradford County, Pa.; Consumptive Use of Up to 7.5000 mgd; Approval Date: February 16, 2025.

2. RENEWAL—Expand Operating LLC; Pad ID: NR-27-COLEMAN EAST-PAD; ABR-20141007.R2; Oakland Township, Susquehanna County, Pa.; Consumptive Use of Up to 7.5000 mgd; Approval Date: February 16, 2025.

3. RENEWAL—Repsol Oil & Gas USA, LLC; Pad ID: Knight 271-1H; ABR-20090912.R3; Jackson Township, Tioga County, Pa.; Consumptive Use of Up to 6.0000 mgd; Approval Date: February 16, 2025.

4. Seneca Resources Company, LLC; Pad ID: Goodwin 6139; ABR-202502001; Charleston Township, Tioga County, Pa.; Consumptive Use of Up to 4.0000 mgd; Approval Date: February 16, 2025.

5. RENEWAL—Coterra Energy Inc.; Pad ID: Diaz Family P1; ABR-201409002.R2; Brooklyn Township, Susquehanna County, Pa.; Consumptive Use of Up to 5.0000 mgd; Approval Date: February 21, 2025.

6. RENEWAL—Coterra Energy Inc.; Pad ID: Hoover P1; ABR-20090937.R3; Dimock Township, Susquehanna County, Pa.; Consumptive Use of Up to 5.0000 mgd; Approval Date: February 21, 2025.

7. RENEWAL—Coterra Energy Inc.; Pad ID: HunsingerA P1; ABR-20090931.R3; Dimock Township, Susquehanna County, Pa.; Consumptive Use of Up to 5.0000 mgd; Approval Date: February 21, 2025.

8. RENEWAL—Coterra Energy Inc.; Pad ID: LernerG P1; ABR-201408011.R2; Ararat Township, Susquehanna County, Pa.; Consumptive Use of Up to 5.0000 mgd; Approval Date: February 21, 2025.

9. RENEWAL—Coterra Energy Inc.; Pad ID: ShieldsG P1; ABR-20090930.R3; Dimock Township, Susquehanna County, Pa.; Consumptive Use of Up to 5.0000 mgd; Approval Date: February 21, 2025.

10. RENEWAL—Coterra Energy Inc.; Pad ID: StraussE P1; ABR-201409005.R2; Harford Township, Susquehanna County, Pa.; Consumptive Use of Up to 5.0000 mgd; Approval Date: February 21, 2025.

11. RENEWAL—Expand Operating LLC; Pad ID: Carty Pad Site; ABR-20090916.R3; Liberty Township, Susquehanna County, Pa.; Consumptive Use of Up to 7.5000 mgd; Approval Date: February 21, 2025.

12. RENEWAL—Expand Operating LLC; Pad ID: Markovitch Pad Site; ABR-20090828.R3; Bridgewater Township, Susquehanna County, Pa.; Consumptive Use of Up to 7.5000 mgd; Approval Date: February 21, 2025.

13. RENEWAL—Expand Operating LLC; Pad ID: RU-06 FLOHS-PAD; ABR-201410012.R2; Great Bend Township, Susquehanna County, Pa.; Consumptive Use of Up to 7.5000 mgd; Approval Date: February 21, 2025.

14. RENEWAL—Expand Operating LLC; Pad ID: RU-47-KARMAZIN-PAD; ABR-201410006.R2; Jackson Township, Susquehanna County, Pa.; Consumptive Use of Up to 7.5000 mgd; Approval Date: February 21, 2025.

15. RENEWAL—Expand Operating LLC; Pad ID: RU-71-BLUE BECK-PAD; ABR-201410003.R2; Jackson Township, Susquehanna County, Pa.; Consumptive Use of Up to 7.5000 mgd; Approval Date: February 21, 2025.

16. RENEWAL—Pennsylvania General Energy Company, L.L.C.; Pad ID: Pine Hill West Pad B; ABR-20090929.R3; Sylvania Township, Potter County, Pa.; Consumptive Use of Up to 4.9000 mgd; Approval Date: February 21, 2025.

17. RENEWAL—Repsol Oil & Gas USA, LLC; Pad ID: Becker 404; ABR-20090909.R3; Jackson Township, Tioga County, Pa.; Consumptive Use of Up to 6.0000 mgd; Approval Date: February 21, 2025.

18. RENEWAL—Repsol Oil & Gas USA, LLC; Pad ID: Stefanowich 269-1H; ABR-20090911.R3; Jackson Township, Tioga County, Pa.; Consumptive Use of Up to 6.0000 mgd; Approval Date: February 21, 2025.

19. RENEWAL—Repsol Oil & Gas USA, LLC; Pad ID: Wheeler 268-1H; ABR-20090829.R3; Jackson Township, Tioga County, Pa.; Consumptive Use of Up to 6.0000 mgd; Approval Date: February 21, 2025.

20. RENEWAL—Repsol Oil & Gas USA, LLC; Pad ID: White 262-1H; ABR-20090910.R3; Jackson Township, Tioga County, Pa.; Consumptive Use of Up to 6.0000 mgd; Approval Date: February 21, 2025.

21. RENEWAL—Seneca Resources Company, LLC; Pad ID: Neal 134D; ABR-20090731.R3; Richmond Township, Tioga County, Pa.; Consumptive Use of Up to 4.0000 mgd; Approval Date: February 21, 2025.

22. RENEWAL—EXCO Resources (PA), LLC; Pad ID: Bower Unit #1H Drilling Pad; ABR-20090815.R3; Penn Township, Lycoming County, Pa.; Consumptive Use of Up to 5.0000 mgd; Approval Date: February 24, 2025.

23. RENEWAL—EXCO Resources (PA), LLC; Pad ID: Kensinger Unit Drilling Pad #1; ABR-20090922.R3; Penn Township, Lycoming County, Pa.; Consumptive Use of Up to 5.0000 mgd; Approval Date: February 24, 2025.

24. RENEWAL—EXCO Resources (PA), LLC; Pad ID: Maguire Unit Drilling Pad #1; ABR-20090923.R3; Watson Township, Lycoming County, Pa.; Consumptive Use of Up to 5.0000 mgd; Approval Date: February 24, 2025.

25. RENEWAL—EXCO Resources (PA), LLC; Pad ID: Warburton Unit #1H Drilling Pad; ABR-20090816.R3; Penn Township, Lycoming County, Pa.; Consumptive Use of Up to 5.0000 mgd; Approval Date: February 24, 2025.

26. RENEWAL—EQT ARO LLC; Pad ID: C.O.P. TRACT 343 PAD C; ABR-20090908.R3; Noyes Township, Clinton County, Pa.; Consumptive Use of Up to 4.0000 mgd; Approval Date: February 26, 2025.

27. RENEWAL—EQT ARO LLC; Pad ID: WW Litke #1H; ABR-20090817.R3; Curtin Township, Centre County, Pa.; Consumptive Use of Up to 4.0000 mgd; Approval Date: February 26, 2025.

28. RENEWAL—EXCO Resources (PA), LLC; Pad ID: Falk Unit #1H; ABR-20090920.R3; Penn Township, Lycoming County, Pa.; Consumptive Use of Up to 5.0000 mgd; Approval Date: February 26, 2025.

29. RENEWAL—EXCO Resources (PA), LLC; Pad ID: Poor Shot Unit Drilling Pad #1; ABR-20090925.R3; Anthony Township, Lycoming County, Pa.; Consumptive Use of Up to 5.0000 mgd; Approval Date: February 26, 2025.

30. RENEWAL—EXCO Resources (PA), LLC; Pad ID: Spotts Unit Drilling Pad #1; ABR-20090921.R3; Mifflin Township, Lycoming County, Pa.; Consumptive Use of Up to 5.0000 mgd; Approval Date: February 26, 2025.

31. RENEWAL—EXCO Resources (PA), LLC; Pad ID: Stroble Unit Drilling Pad #1; ABR-20090924.R3; Mifflin Township, Lycoming County, Pa.; Consumptive Use of Up to 5.0000 mgd; Approval Date: February 26, 2025.

32. RENEWAL—Expand Operating LLC; Pad ID: NR-04-DIAZ PAD; ABR-201411002.R2; New Milford Township, Susquehanna County, Pa.; Consumptive Use of Up to 7.5000 mgd; Approval Date: February 26, 2025.

33. RENEWAL—Expand Operating LLC; Pad ID: RU-51-WHITEHEAD-PAD; ABR-201409003.R2; Jackson Township, Susquehanna County, Pa.; Consumptive Use of Up to 7.5000 mgd; Approval Date: February 26, 2025.

34. RENEWAL—Formentera Operations LLC; Pad ID: Reitz Well Pad; ABR-201410008.R2; Eldred Township, Lycoming County, Pa.; Consumptive Use of Up to 4.0000 mgd; Approval Date: February 26, 2025.

35. RENEWAL—LPR Energy, LLC; Pad ID: Hutton Unit #1H; ABR-20090518.R3; Chest Township, Clearfield County, Pa.; Consumptive Use of Up to 5.0000 mgd; Approval Date: February 26, 2025.

36. RENEWAL—Pennsylvania General Energy Company, L.L.C.; Pad ID: Pine Hill 1941 A-B; ABR-20090926.R3; Wharton Township, Potter County, Pa.; Consumptive Use of Up to 4.9000 mgd; Approval Date: February 26, 2025.

37. RENEWAL—Expand Operating LLC; Pad ID: Duffield; ABR-20091213.R3; Tuscarora Township, Bradford County, Pa.; Consumptive Use of Up to 7.5000 mgd; Approval Date: February 27, 2025.

38. RENEWAL—Expand Operating LLC; Pad ID: Miller; ABR-20091211.R3; Towanda Township, Bradford County, Pa.; Consumptive Use of Up to 7.5000 mgd; Approval Date: February 27, 2025.

39. RENEWAL—Expand Operating LLC; Pad ID: Micks Pad Site; ABR-20090938.R3; Forest Lake Township, Susquehanna County, Pa.; Consumptive Use of Up to 7.5000 mgd; Approval Date: February 28, 2025.

40. RENEWAL—Repsol Oil & Gas USA, LLC; Pad ID: Allen 264; ABR-20091007.R3; Jackson Township, Tioga County, Pa.; Consumptive Use of Up to 6.0000 mgd; Approval Date: February 28, 2025.

41. RENEWAL—Repsol Oil & Gas USA, LLC; Pad ID: Cooper 400; ABR-20091013.R3; Tioga Township, Tioga County, Pa.; Consumptive Use of Up to 6.0000 mgd; Approval Date: February 28, 2025.

42. RENEWAL—Repsol Oil & Gas USA, LLC; Pad ID: DCNR 587 (02 009); ABR-20091024.R3; Ward Township, Tioga County, Pa.; Consumptive Use of Up to 6.0000 mgd; Approval Date: February 28, 2025.

43. RENEWAL—Repsol Oil & Gas USA, LLC; Pad ID: KNIGHTS (01 024) L; ABR-20091025.R3; Troy Township, Bradford County, Pa.; Consumptive Use of Up to 6.0000 mgd; Approval Date: February 28, 2025.

44. RENEWAL—Repsol Oil & Gas USA, LLC; Pad ID: Ostrander 412; ABR-20091009.R3; Jackson Township, Tioga County, Pa.; Consumptive Use of Up to 6.0000 mgd; Approval Date: February 28, 2025.

45. RENEWAL—Seneca Resources Company, LLC; Pad ID: Cascarino 443; ABR-20100222.R3; Shippen Township, Tioga County, Pa.; Consumptive Use of Up to 4.0000 mgd; Approval Date: February 28, 2025.

46. RENEWAL—Seneca Resources Company, LLC; Pad ID: Cole 236; ABR-20090936.R3; Sullivan Township, Tioga County, Pa.; Consumptive Use of Up to 4.0000 mgd; Approval Date: February 28, 2025.

47. RENEWAL—Seneca Resources Company, LLC; Pad ID: Empson 235-1H; ABR-20090914.R3; Sullivan Township, Tioga County, Pa.; Consumptive Use of Up to 4.0000 mgd; Approval Date: February 28, 2025.

48. RENEWAL—Seneca Resources Company, LLC; Pad ID: Pazzaglia 507; ABR-20091003.R3; Rutland Township, Tioga County, Pa.; Consumptive Use of Up to 4.0000 mgd; Approval Date: February 28, 2025.

49. RENEWAL—Seneca Resources Company, LLC; Pad ID: Sampson 147 1H-3H; ABR-20090824.R3; Charleston Township, Tioga County, Pa.; Consumptive Use of Up to 4.0000 mgd; Approval Date: February 28, 2025.

50. RENEWAL—Seneca Resources Company, LLC; Pad ID: Sherman 234-1H; ABR-20090935.R3; Sullivan Township, Tioga County, Pa.; Consumptive Use of Up to 4.0000 mgd; Approval Date: February 28, 2025.

Authority: Public Law 91-575, 84 Stat. 1509 et seq., 18 CFR parts 806 and 808.

Dated: March 18, 2025.
Jason E. Oyler,
General Counsel and Secretary to the Commission.

[FR Doc. 2025-04896 Filed 3-20-25; 8:45 am]

BILLING CODE 7040-01-P